DEPARTMENT OF DEFENSE

Office of the Secretary

[Docket ID: DOD-2011-OS-0049]

Privacy Act of 1974; System of Records

AGENCY: Office of the Secretary, DoD.

ACTION: Notice; Correction.

SUMMARY: On Monday, May 9, 2011 (76 FR 26712), the Department of Defense published a notice to alter a system of records. Extraneous text was included in the notice. Deleted from the notice is the text immediately below the signature block of the Alternate Federal Register Liaison Officer through the eleven enumerations that follow. The text including and following “DPFPA 01” remains unchanged.

Dated: May 10, 2011.
Morgan F. Park,
Alternate OSD Federal Register Liaison Officer, Department of Defense.

[FR Doc. 2011-11772 Filed 5-12-11; 8:45 am]

BILLING CODE 5001-06-P